DEPARTMENT OF ENERGY

Federal Energy Regulatory Commission

[Docket No. CP17-14-000]

Notice of Schedule for Environmental Review of the UGI LNG, Inc. Temple Truck Rack Expansion Project

On November 14, 2016, UGI LNG, Inc. filed an application in Docket No. CP17-14-000 requesting a Certificate of Public Convenience and Necessity pursuant to Section 7(c) of the Natural Gas Act to construct and operate certain natural gas pipeline facilities at the existing Temple Liquefied Natural Gas (LNG) Peak-shaving Facility in Berks County, Pennsylvania. The proposed project is known as the Temple Truck Rack Expansion Project (Project), and would allow UGI LNG, Inc. to more reliably serve the growing demand for truck deliveries by UGI Energy Services.

On November 29, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 18, 2018

90-Day Federal Authorization Decision Deadline—December 17, 2018

If a schedule change becomes necessary, additional notice will be provided so that the relevant agencies are kept informed of the Project's progress.

Project Description

UGI LNG, Inc. proposes to expand its existing Temple LNG truck loading facility by constructing two additional trailer loading/unloading racks. The new facilities would consist of two racks with scales, trailer loading skid, pump skid, transfer piping, and associated equipment. The Project would also include constructing a new driveway connecting the expansion to Willow Creek Road. The Project is projected to increase truck volumes from an average of one to three trucks per day to an average of three to six trucks per day.

Background

On January 23, 2017, the Commission issued a Notice of Intent to Prepare an Environmental Assessment for the Proposed Temple Truck Rack Expansion Project and Request for Comments on Environmental Issues (NOI). The NOI was sent to affected landowners; federal, state, and local government agencies; elected officials; environmental and public interest groups; other interested parties; and local libraries and newspapers. In response to the NOI, the Commission received one public comment concerning increased traffic.

The U.S. Department of Transportation is a cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-14), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19391 Filed 9-6-18; 8:45 am]

BILLING CODE 6717-01-P